SURFACE TRANSPORTATION BOARD

[Docket No. FD 34495 (Sub-No. 1)]

Buckingham Branch Railroad Company—Acquisition and Operation Exemption with Interchange Commitment—CSX Transportation, Inc.

Buckingham Branch Railroad Company (BBRC), a Class III rail carrier, has filed a verified notice of exemption under 49 CFR 1150.41 to acquire from CSX Transportation, Inc. (CSXT), and continue to operate approximately 164.22 miles of railroad line, referred to as Segment 3, between approximately milepost 276.0 in Clifton Forge in Allegheny County, Va., and milepost 111.78 at Doswell in Hanover County, Va. (the Line).¹

¹ BBRC states that it began operating over the Line in 2004. See Buckingham Branch R.R.—Lease—CSX Transp., FD 34495 (STB served Nov. 5, 2004).

The verified notice indicates that BBRC has leased and operated the Line (as part of a longer line between AM Junction, near Richmond, and Clifton Forge) since 2005. According to the verified notice, BBRC and CSXT have agreed to convert BBRC's current leasehold interest in the Line into a permanent, exclusive rail freight operating easement. The verified notice states that BBRC and CSXT will enter into, among other things, a Permanent Easement Agreement and an amended Freight Operating Agreement and will also terminate their existing lease agreement with respect to Segment 3. The verified notice further states that the amended Freight Operating Agreement between BBRC and CSXT contains an interchange commitment that affects interchange with carriers other than CSXT. The affected interchanges are with Norfolk Southern Railway Company at Charlottesville, Va., and at Waynesboro, Va. BBRC has provided additional information regarding the interchange commitment as required by 49 CFR 1150.43(h).

BBRC certifies that its projected annual revenues as a result of this transaction will not result in BBRC's becoming a Class II or Class I rail carrier, but its projected annual revenues will exceed $5 million. Pursuant to 49 CFR 1150.42(e), if a carrier's projected annual revenues will exceed $5 million, it must, at least 60 days before the exemption becomes effective, post a notice of its intent to undertake the proposed transaction at the workplace of the employees on the affected lines, serve a copy of the notice on the national offices of the labor unions with employees on the affected lines, and certify to the Board that it has done so. Concurrently with its verified notice, however, BBRC filed a petition for waiver of the labor notice requirements. BBRC's waiver request will be addressed in a separate decision.

BBRC states that it expects to consummate the transaction on or sometime after the effective date of the exemption. The Board will establish the effective date in its separate decision on the waiver request.

If the notice contains false or misleading information, the exemption is void ab initio. Petitions to revoke the exemption under 49 U.S.C. 10502(d) may be filed at any time. The filing of a petition to revoke will not automatically stay the effectiveness of the exemption. Petitions for stay must be filed no later than September 24, 2021.

All pleadings, referring to Docket No. FD 34495 (Sub-No. 1), should be filed with the Surface Transportation Board via e-filing on the Board's website. In addition, a copy of each pleading must be served on BBRC's representative, Robert A. Wimbish, Fletcher & Sippel LLC, 29 North Wacker Drive, Suite 800, Chicago, IL 60606.

According to BBRC, this action is categorically excluded from environmental review under 49 CFR 1105.6(c) and from historic preservation reporting requirements under 49 CFR 1105.8(b)(1).

Board decisions and notices are available at www.stb.gov.

Decided: September 13, 2021.
By the Board, Scott M. Zimmerman, Acting Director, Office of Proceedings.
Raina S. White,
Clearance Clerk.

[FR Doc. 2021-20145 Filed 9-16-21; 8:45 am]

BILLING CODE 4915-01-P